NATIONAL SCIENCE FOUNDATION

Advisory Committee for Cyberinfrastructure; Notice of Meeting

In accordance with the Federal Advisory Committee Act (Pub., L. 92-463, as amended), the National Science Foundation (NSF) announces the following meeting:

Name and Committee Code: Advisory Committee for Cyberinfrastructure (#25150).

Date and Time: April 11-12, 2024; 8:30 a.m.-5 p.m. (Eastern).

Place: NSF, 2415 Eisenhower Avenue, Rm 3410, Alexandria, VA 22314 (In-Person).

The final meeting agenda and instructions to register and attend the meeting will be posted on the ACCI website: https://www.nsf.gov/cise/oac/advisory.jsp.

Type of Meeting: Open.

Contact Persons: Walton, Amy, National Science Foundation, 2415 Eisenhower Avenue, Alexandria, VA 22314; Telephone: (703) 292-4538.

Minutes: May be obtained from Christine Christy, National Science Foundation, 2415 Eisenhower Avenue, Alexandria, VA 22314; Telephone: (703) 292-2221 and will be posted within 90-days after the meeting end date to the ACCI website: https://www.nsf.gov/cise/oac/advisory.jsp

Purpose of Meeting: To advise NSF on the impact of its policies, programs, and activities in the OAC community. To provide advice to the Director/NSF on issues related to long-range planning.

Agenda: Updates on NSF wide OAC activities: https://www.nsf.gov/cise/oac/advisory.jsp.

Dated: February 15, 2024.
Crystal Robinson,
Committee Management Officer.

[FR Doc. 2024-03519 Filed 2-20-24; 8:45 am]

BILLING CODE 7555-01-P